DEPARTMENT OF TRANSPORTATION

Federal Aviation Administration

14 CFR Part 39

[FAA-2006-26557; Directorate Identifier 2006-CE-85-AD; Amendment 39-14860; AD 2006-26-02]

RIN 2120-AA64

Airworthiness Directives; Stemme GmbH & Co. KG Model S10, S10-V, and S10-VT Gliders

AGENCY: Federal Aviation Administration (FAA), DOT.

ACTION: Final rule; request for comments.

SUMMARY: We are adopting a new airworthiness directive (AD) for the products listed above. This AD results from mandatory continuing airworthiness information (MCAI) issued by the aviation authority of another country to identify and correct an unsafe condition on an aviation product. The MCAI describes the unsafe condition as:

a leaking brass fuel connection (part no. 10AB-75) was found during maintenance check.

This AD requires actions that are intended to address the unsafe condition described in the MCAI.

DATES: This AD becomes effective January 10, 2007.

The Director of the Federal Register approved the incorporation by reference of Stemme F&D Service Bulletin Document Number A31-10-077, Am.-Index: 01.a, dated October 6, 2006, listed in this AD as of January 10, 2007.

We must receive comments on this AD by January 22, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this AD, the regulatory evaluation, any comments received, and other information. The street address for the Docket Office (telephone (800) 647-5227) is in the ADDRESSES section. Comments will be available in the AD docket shortly after receipt.

FOR FURTHER INFORMATION CONTACT: Greg Davison, Glider Program Manager, Small Airplane Directorate, FAA, 901 Locust, Room 301, Kansas City, Missouri, 64106; telephone: (816) 329-4130; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the Technical Agent for the Member States of the European Community, has issued AD No.: 2006-0310-E, dated October 11, 2006 (referred to after this as “the MCAI”), to correct an unsafe condition for the specified products. The MCAI states:

A leaking brass fuel connection (part no. 10AB-75) was found during maintenance check.

This brass fuel connection was for the first time introduced with the SB A31-10-061, “Additional Measures—Fire Protection S10-VT” and with the SB A31-10-063, “Additional Measures—Fire Protection for S10 and S10-V” (US mandatory). These brass connections were used later in serial production as spare parts.

The leaking brass connector was in accordance with design modification index 01.a. It was installed starting February 2002 until April 2002. A modified version of the hose connector was introduced in April 2002 after the old version resulted to be susceptible to improper assembly and maintenance. The modified version has design modification index 02.a and its installation has been proved to avoid any possible leakage.

The MCAI requires inspections on both sides of the fuel connection between the wing and the fuselage to identify any installed brass hose connector having design modification index 01.a and replacing those connectors with the modified version of connectors having design modification index 02.a. You may obtain further information by examining the MCAI in the AD docket.

Relevant Service Information

Stemme GmbH & Co. KG has issued Stemme F&D Service Bulletin A31-10-077 Am.-Index: 01.a, dated October 6, 2006. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because a leaking brass fuel connection (part no. 10AB-75) was found during maintenance check. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2006-26557; Directorate Identifier 2006-CE-85-AD” at the beginning of your comments. We specifically invite comments on the overall regulatory, economic, environmental, and energy aspects of this AD. We will consider all comments received by the closing date and may amend this AD because of those comments.

We will post all comments we receive, without change, to http://dms.dot.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2006-26-02 Stemme GmbH & Co. KG: Amendment 39-14860; Docket No. FAA-2006-26557; Directorate Identifier 2006-CE-85-AD.

Effective Date

(a) This airworthiness directive (AD) becomes effective January 10, 2007.

Affected ADs

(b) None.

Applicability

(c) This AD applies to the following model and serial number gliders, certificated in any category.

Models | Serial Nos.
S10 | 10-03 through 10-56.
S10-V | 14-001 through 14-030 and all converted variants 14-003M through 14-056M.
S10-VT | 11-001 through 11-100.

Reason

(d) The mandatory continuing airworthiness information (MCAI) states:

A leaking brass fuel connection (part no. 10AB-75) was found during maintenance check.

Actions and Compliance

(e) Prior to further flight as of January 10, 2007 (the effective date of this AD), unless already done, do the following actions.

(1) Inspect both sides of the connection between the wing and the fuselage to identify any installed brass hose connector having design modification index 01.a.

(2) Replace connectors identified as design modification index 01.a with the modified version of connectors having design modification index 02.a.

(3) Do the actions required in this AD in accordance with the requirements of Stemme F&D Service Bulletin A31-10-077 Am.-Index: 01.a, dated October 6, 2006.

FAA AD Differences

Note: This AD differs from the MCAI and/or service information as follows: No differences.

Other FAA AD Provisions

(f) The following provisions also apply to this AD:

(1) Alternative Methods of Compliance (AMOCs): The Manager, Standards Staff, FAA, Small Airplane Directorate, ATTN: Greg Davison, Glider Program Manager, 901 Locust, Room 301, Kansas City, Missouri, 64106; telephone: (816) 329-4130; fax: (816) 329-4090, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(g) Refer to European Aviation Safety Agency (EASA) AD No.: 2006-0310-E, dated October 11, 2006, and Stemme F&D Service Bulletin A31-10-077 Am.-Index: 01.a, dated October 6, 2006, for related information.

Material Incorporated by Reference

(h) You must use Stemme F&D Service Bulletin A31-10-077 Am.-Index: 01.a, dated October 6, 2006, to do the actions required by this AD, unless the AD specifies otherwise.

(1) The Director of the Federal Register approved the incorporation by reference of this service information under 5 U.S.C. 552(a) and 1 CFR part 51.

(2) For service information identified in this AD, contact STEMME GmbH & Co. KG, Flugplatzstraβe F2, Nr. 7, D-15344 Strausberg, Germany; telephone: + 49.33 41/36 12-0; fax: +49.33 41/36 12-30; e-mail: P.Ellwanger@stemme.de.

(3) You may review copies at the FAA, Central Region, Office of the Regional Counsel, 901 Locust, Kansas City, Missouri 64106; or at the National Archives and Records Administration (NARA). For information on the availability of this material at NARA, call 202-741-6030, or go to: http://www.archives.gov/federal-register/cfr/ibr-locations.html.

Issued in Kansas City, Missouri on December 14, 2006.
Kim Smith,
Manager, Small Airplane Directorate, Aircraft Certification Service.

[FR Doc. E6-21749 Filed 12-20-06; 8:45 am]

BILLING CODE 4910-13-P